DEPARTMENT OF LABOR

Employment and Training Administration

[TA-W-37,438]

Georgia Pacific Corporation, Building Products Division, OSB Mill, Woodland, ME; Notice of Termination of Investigation

Pursuant to section 221 of the Trade Act of 1974, an investigation was initiated on March 13, 2000 in response to a worker petition which was filed by the union on behalf of workers at Georgia Pacific Corporation, Building Products Division, OSB Mill, Woodland, Maine.

The petitioner has requested that the petition be withdrawn. Consequently, further investigation in this case would serve no purpose, and the investigation has been terminated.

Signed in Washington, DC this 24th day of March, 2000.
Grant D. Beale,
Program Manager, Division of Trade Adjustment Assistance.

[FR Doc. 00-8928 Filed 4-10-00; 8:45 am]

BILLING CODE 4510-30-M